DEPARTMENT OF LABOR

Employment and Training Administration

[TA-W-65,921]

Newport Corporation, Irvine, CA; Notice of Termination of Investigation

Pursuant to Section 221 of the Trade Act of 1974, as amended, an investigation was initiated on May 15, 2009 in response to a worker petition filed by the State Workforce Office on behalf of workers at Newport Corporation, Irvine, California.

The petitioner has requested that the petition be withdrawn. Consequently, the investigation has been terminated.

Signed at Washington, DC, this 27th day of May 2009.
Linda G. Poole,
Certifying Officer, Division of Trade Adjustment Assistance.

[FR Doc. E9-15220 Filed 6-26-09; 8:45 am]

BILLING CODE 4510-FN-P